INTERNATIONAL TRADE COMMISSION

[Inv. No. 337-TA-789]

In the Matter of Certain Digital Televisions and Components Thereof; Notice of Institution of Investigation Institution of Investigation Pursuant to 19 U.S.C. 1337

AGENCY: U.S. International Trade Commission.

ACTION: Notice.

SUMMARY: Notice is hereby given that a complaint was filed with the U.S. International Trade Commission on June 16, 2011, under section 337 of the Tariff Act of 1930, as amended, 19 U.S.C. 1337, on behalf of Vizio, Inc. of Irvine, California. Letters supplementing the complaint were filed on June 29 and July 6, 2011. The complaint alleges violations of section 337 based upon the importation into the United States, the sale for importation, and the sale within the United States after importation of certain digital televisions and components thereof by reason of infringement of certain claims of U.S. Patent No. 5,511,096 (“the `096 patent”); U.S. Patent No. 5,621,761 (“the `761 patent”); U.S. Patent No. 5,703,887 (“the `887 patent”); U.S. Patent No. 5,745,522 (“the `522 patent”); and U.S. Patent No. 5,511,082 (“the `082 patent”). The complaint further alleges that an industry in the United States exists or is in the process of being established as required by subsection (a)(2) of section 337.

The complainant requests that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street, SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2011).

Scope of Investigation: Having considered the complaint, the U.S. International Trade Commission, on July 13, 2011, ordered that—

(1) Pursuant to subsection (b) of section 337 of the Tariff Act of 1930, as amended, an investigation be instituted to determine whether there is a violation of subsection (a)(1)(B) of section 337 in the importation into the United States, the sale for importation, or the sale within the United States after importation of certain digital television and components thereof that infringe one or more of claims 22-25 of the `096 patent; claim 11 of the `761 patent; claims 22 and 23 of the `887 patent; claims 1-15 of the `522 patent; and claim 1 of the `082 patent, and whether an industry in the United States exists or is in the process of being established as required by subsection (a)(2) of section 337;

(2) For the purpose of the investigation so instituted, the following are hereby named as parties upon which this notice of investigation shall be served:

(a) The complainant is: Vizio, Inc., 39 Tesla, Irvine, CA 92618.

(b) The respondents are the following entities alleged to be in violation of section 337, and are the parties upon which the complaint is to be served:

Coby Electronics Corp., 1991 Marcus Avenue, Suite 301, Lake Success, NY 11042;

Curtis International Ltd., 315 Attwell Drive, Etobicoke, Ontario M9W 5C1, Canada;

E&S International Enterprises, Inc., d/b/a Viore, 7801 Hayvenhurst Avenue, Van Nuys, CA 91406;

MStar Semiconductor, Inc., 4F-1, No. 26, Tai-Yuan St., ChuPei Hsinchu Hsien, Taiwan 302;

ON Corp US, Inc., 4370 La Jolla Village Drive, Suite 400, San Diego, CA 92122;

Renesas Electronics Corporation, 1753 Shimonumabe, Nakahara-Ku, Kawasaki, Kanagawa 211-8668, Japan;

Renesas Electronics America, Inc., 2880 Scott Boulevard, Santa Clara, CA 95050-2554;

Sceptre, Inc., 16800 East Gale Avenue, City of Industry, CA 91745;

Westinghouse Digital, LLC, 500 North State College Boulevard, Suite 1300, Orange, CA 92868.

(c) The Office of Unfair Import Investigations, U.S. International Trade Commission, 500 E Street, SW., Suite 401, Washington, DC 20436; and

(3) For the investigation so instituted, the Honorable Paul J. Luckern, Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: July 13, 2011.
James R. Holbein,
Secretary to the Commission.

[FR Doc. 2011-18047 Filed 7-18-11; 8:45 am]

BILLING CODE 7020-02-P